DEPARTMENT OF THE INTERIOR

Fish and Wildlife Service

[FWS-R8-ES-2016-N236; FXES11130800000-189-FF08EVEN00]

Receipt of Application for Renewal of Incidental Take Permits; Interim Programmatic Low-Effect Habitat Conservation Plan for the Endangered Mount Hermon June Beetle and Ben Lomond Spineflower, Santa Cruz County and Scotts Valley, CA

AGENCY: Fish and Wildlife Service, Interior.

ACTION: Notice of receipt of permit renewal application; request for comments.

SUMMARY: We, the U.S. Fish and Wildlife Service (Service), have received requests from the County of Santa Cruz and City of Scotts Valley (applicants), for renewal of two incidental take permits under the Endangered Species Act of 1973, as amended. The applicants have requested a renewal that will extend permit authorization by 5 years from the date the permit is reissued. If renewed, no additional take above the original authorized limit of 139 acres of habitat will be authorized. The permits would authorize take of the federally endangered Mount Hermon June beetle, incidental to otherwise lawful activities associated with the Interim Programmatic Habitat Conservation Plan for the Endangered Mount Hermon June beetle and Ben Lomond spineflower.

DATES: Written comments should be received on or before May 24, 2018.

ADDRESSES: You may obtain copies of the permit renewal applications and the habitat conservation plan (HCP) on the internet at http://www.fws.gov/ventura/, or by writing to the Ventura Fish and Wildlife Office, Attn: Permit numbers TE43708A-0 and TE44928A-0, U.S. Fish and Wildlife Service, 2493 Portola Road, Suite B, Ventura, CA 93003. In addition, we will make the permit renewal applications and HCP available for public inspection by appointment during normal business hours at the above address. Please address written comments to Stephen P. Henry, Field Supervisor, at the address above. Comments may also be sent by facsimile to (805) 644-3958.

FOR FURTHER INFORMATION CONTACT: Chad Mitcham, Fish and Wildlife Biologist, by mail to the address in ADDRESSES or by phone at (805) 677-3328.

SUPPLEMENTARY INFORMATION: We have received requests from the County of Santa Cruz and City of Scotts Valley (applicants) for renewal of incidental take permits TE43708A-0 and TE44928A-0 under the Endangered Species Act of 1973, as amended (Act). The applicants have requested renewals that would extend permit authorization by 5 years from the date the permit is reissued. The applicants have agreed to follow all of the existing habitat conservation plan conditions. If renewed, no additional take above the original authorized limit of 139 acres of habitat will be authorized. The permits would authorize take of the federally endangered Mount Hermon June beetle (Polyphylla barbata), incidental to otherwise lawful activities associated with the Interim Programmatic Habitat Conservation Plan for the Endangered Mount Hermon June Beetle and Ben Lomond Spineflower (HCP).

Background

The Mount Hermon June beetle was listed by the Service as endangered on January 24, 1997. The Ben Lomond spineflower (Chorizanther pungens var. hartwegiana) was listed by the Service as endangered on February 4, 1994. Section 9 of the Act (16 U.S.C. 1531 et seq.) and its implementing regulations prohibit the “take” of fish or wildlife species listed as endangered or threatened. “Take” is defined under the Act to include the following activities: “[T]o harass, harm, pursue, hunt, shoot, wound, kill, trap, capture, or collect, or to attempt to engage in any such conduct” (16 U.S.C. 1532); however, under section 10(a)(1)(B) of the Act, we may issue permits to authorize incidental take of listed wildlife species. “Incidental Take” is defined by the Act as take that is incidental to, and not the purpose of, carrying out of an otherwise lawful activity. The Code of Federal Regulations provides regulations governing incidental take permits for threatened and endangered species at 50 CFR 17.32 and 17.22, respectively. Under the Act, protections for federally listed plants differ from the protections afforded to federally listed animals. Take of listed plant species is not prohibited under the Act and cannot be authorized under a section 10 permit. Listed plant species may be included on an incidental take permit in recognition of the conservation benefit provided to them under an HCP. Issuance of an incidental take permit also must not jeopardize the existence of federally listed fish, wildlife, or plant species. All species included in the incidental take permit would receive assurances under our “No Surprises” regulations (50 CFR 17.22(b)(5) and 17.32(b)(5)).

The applicants have applied for renewal of their respective permits for incidental take of the endangered Mount Hermon June beetle. The potential taking would occur by activities associated with the construction of certain eligible small development projects in densely developed residential neighborhoods (as defined in the HCP) that support suitable habitat for the covered species. The 10 Project Units within the HCP boundary were identified within the communities of Ben Lomond, Felton, Mount Hermon, and Scotts Valley in Santa Cruz County, California. Incidental take permits were first issued for the HCP on October 27, 2011.

Public Comments

If you wish to comment on the permit applications, plans, and associated documents, you may submit comments by any one of the methods in ADDRESSES.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10 of the Act (16 U.S.C. 1531 et seq.).

Dated: April 18, 2018.
Stephen P. Henry,
Field Supervisor, Ventura Fish and Wildlife Office, Ventura, California.

[FR Doc. 2018-08499 Filed 4-23-18; 8:45 am]

BILLING CODE 4333-15-P